DEPARTMENT OF ENERGY

Federal Energy Regulatory Commission

Combined Notice of Filings #1

Take notice that the Commission received the following exempt wholesale generator filings:

Docket Numbers: EG21-130-000.

Applicants: Irish Creek Wind, LLC.

Description: Notice of Self-Certification of Exempt Wholesale Generator Status of Irish Creek Wind, LLC.

Filed Date: 4/26/21.

Accession Number: 20210426-5025.

Comments Due: 5 p.m. ET 5/17/21.

Docket Numbers: EG21-131-000.

Applicants: Heartland Divide Wind II, LLC.

Description: Notice of Self-Certification of Exempt Wholesale Generator Status of Heartland Divide Wind II, LLC.

Filed Date: 4/26/21.

Accession Number: 20210426-5027.

Comments Due: 5 p.m. ET 5/17/21.

Docket Numbers: EG21-132-000.

Applicants: Little Blue Wind Project, LLC.

Description: Notice of Self-Certification of Exempt Wholesale Generator Status of Little Blue Wind Project, LLC.

Filed Date: 4/26/21.

Accession Number: 20210426-5028.

Comments Due: 5 p.m. ET 5/17/21.

Docket Numbers: EG21-133-000.

Applicants: Sac County Wind, LLC.

Description: Notice of Self-Certification of Exempt Wholesale Generator Status of Sac County Wind, LLC.

Filed Date: 4/26/21.

Accession Number: 20210426-5029.

Comments Due: 5 p.m. ET 5/17/21.

Take notice that the Commission received the following electric rate filings:

Docket Numbers: ER10-2566-011; ER10-1333-015; ER13-2322-007; ER13-2387-008; ER15-190-014; ER18-1343-007; ER19-1819-002; ER19-1820-002; ER19-1821-002.

Applicants: Duke Energy Carolinas, LLC, Duke Energy Commercial Enterprises, Inc., Duke Energy Florida, LLC, Duke Energy Progress, LLC, Duke Energy Renewable Services, LLC, Broad River Solar, LLC, Stony Knoll Solar, LLC, Speedway Solar NC, LLC, Carolina Solar Power, LLC.

Description: Supplement to June 29, 2020 Triennial Updated Market Power Analysis for the Southeast Region of Duke Southeast MBR Sellers.

Filed Date: 4/22/21.

Accession Number: 20210422-5192.

Comments Due: 5 p.m. ET 5/13/21.

Docket Numbers: ER18-1150-005.

Applicants: Northwest Ohio Wind, LLC.

Description: Notice of Non-Material Change in Status of Northwest Ohio Wind, LLC.

Filed Date: 4/23/21.

Accession Number: 20210423-5303.

Comments Due: 5 p.m. ET 5/14/21.

Docket Numbers: ER20-2125-000.

Applicants: WGP Redwood Holdings, LLC.

Description: Supplement to the June 22, 2020 WGP Redwood Holdings, LLC tariff filing.

Filed Date: 4/23/21.

Accession Number: 20210423-5336.

Comments Due: 5 p.m. ET 5/14/21.

Docket Numbers: ER21-573-002.

Applicants: Chalk Point Power, LLC.

Description: Tariff Amendment: Response to Request for Additional Information and Update to Effective Date to be effective 4/27/2021.

Filed Date: 4/26/21.

Accession Number: 20210426-5135.

Comments Due: 5 p.m. ET 5/6/21.

Docket Numbers: ER21-574-002.

Applicants: Dickerson Power, LLC.

Description: Tariff Amendment: Response to Request for Additional Information and Update to Effective Date to be effective 4/27/2021.

Filed Date: 4/26/21.

Accession Number: 20210426-5136.

Comments Due: 5 p.m. ET 5/17/21.

Docket Numbers: ER21-575-002.

Applicants: Lanyard Power Marketing, LLC.

Description: Tariff Amendment: Response to Request for Additional Information and Update to Effective Date to be effective 4/27/2021.

Filed Date: 4/26/21.

Accession Number: 20210426-5137.

Comments Due: 5 p.m. ET 5/17/21.

Docket Numbers: ER21-577-002.

Applicants: Morgantown Power, LLC.

Description: Tariff Amendment: Response to Request for Additional Information and Update to Effective Date to be effective 4/27/2021.

Filed Date: 4/26/21.

Accession Number: 20210426-5138.

Comments Due: 5 p.m. ET 5/17/21.

Docket Numbers: ER21-578-002.

Applicants: Morgantown Station, LLC.

Description: Tariff Amendment: Response to Request for Additional Information and Update to Effective Date to be effective 4/27/2021.

Filed Date: 4/26/21.

Accession Number: 20210426-5141.

Comments Due: 5 p.m. ET 5/17/21.

Docket Numbers: ER21-1756-000.

Applicants: Tri-State Generation and Transmission Association, Inc.

Description: § 205(d) Rate Filing: Service Agreement No. 892 to be effective 4/15/2021.

Filed Date: 4/26/21.

Accession Number: 20210426-5069.

Comments Due: 5 p.m. ET 5/17/21.

Docket Numbers: ER21-1757-000.

Applicants: Tri-State Generation and Transmission Association, Inc.

Description: § 205(d) Rate Filing: Service Agreement No. 893 to be effective 4/15/2021.

Filed Date: 4/26/21.

Accession Number: 20210426-5064.

Comments Due: 5 p.m. ET 5/17/21.

Docket Numbers: ER21-1758-000.

Applicants: PJM Interconnection, L.L.C.

Description: § 205(d) Rate Filing: Original NSA, SA No. 6026; Queue No. NQ122 to be effective 4/7/2021.

Filed Date: 4/26/21.

Accession Number: 20210426-5082.

Comments Due: 5 p.m. ET 5/17/21.

Docket Numbers: ER21-1759-000.

Applicants: Westlands Transmission, LLC.

Description: § 205(d) Rate Filing: Second Amended Rate Schedule FERC No. 1 and Agreement to Supplement to be effective 4/27/2021.

Filed Date: 4/26/21.

Accession Number: 20210426-5124.

Comments Due: 5 p.m. ET 5/17/21.

Docket Numbers: ER21-1761-000.

Applicants: American Electric Power Service Corporation, Ohio Power Company, AEP Ohio Transmission Company, Inc., PJM Interconnection, L.L.C.

Description: § 205(d) Rate Filing: AEP submits Three FAs re: ILDSA SA No. 1336 to be effective 6/26/2021.

Filed Date: 4/26/21.

Accession Number: 20210426-5126.

Comments Due: 5 p.m. ET 5/17/21.

Docket Numbers: ER21-1762-000.

Applicants: Alabama Power Company.

Description: § 205(d) Rate Filing: Hale South Solar LGIA Filing to be effective 4/12/2021.

Filed Date: 4/26/21.

Accession Number: 20210426-5151.

Comments Due: 5 p.m. ET 5/17/21.

Docket Numbers: ER21-1763-000.

Applicants: PJM Interconnection, L.L.C.

Description: § 205(d) Rate Filing: Original WMPA, SA No. 6020; Queue No. AG1-141 to be effective 4/1/2021.

Filed Date: 4/26/21.

Accession Number: 20210426-5186.

Comments Due: 5 p.m. ET 5/17/21.

Docket Numbers: ER21-1764-000.

Applicants: PJM Interconnection, L.L.C.

Description: § 205(d) Rate Filing: Original IISA, Service Agreement No. 6014; Queue No. AE2-297 to be effective 3/29/2021.

Filed Date: 4/26/21.

Accession Number: 20210426-5189.

Comments Due: 5 p.m. ET 5/17/21.

Docket Numbers: ER21-1765-000.

Applicants: Cleveland Cliffs Electric Supply LLC.

Description: Baseline eTariff Filing: baseline new to be effective 4/26/2021.

Filed Date: 4/26/21.

Accession Number: 20210426-5207.

Comments Due: 5 p.m. ET 5/17/21.

Docket Numbers: ER21-1766-000.

Applicants: ISO New England Inc.

Description: § 205(d) Rate Filing: ISO New England Inc.; Ministerial Filing to True Up Section III.13.1 to be effective 9/25/2018.

Filed Date: 4/26/21.

Accession Number: 20210426-5212.

Comments Due: 5 p.m. ET 5/17/21.

Docket Numbers: ER21-1767-000.

Applicants: Tampa Electric Company.

Description: § 205(d) Rate Filing: Updated Real Power Loss Factor—2021 to be effective 5/1/2021.

Filed Date: 4/26/21.

Accession Number: 20210426-5213.

Comments Due: 5 p.m. ET 5/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2021.
Kimberly D. Bose,
Secretary.

[FR Doc. 2021-09059 Filed 4-29-21; 8:45 am]

BILLING CODE 6717-01-P